DEPARTMENT OF AGRICULTURE

Rural Housing Service

Rural Business—Cooperative Service

Rural Utilities Service

Farm Service Agency

7 CFR Part 1924

Construction and Repair

CFR Correction

In Title 7 of the Code of Federal Regulations, Parts 1760 to 1939, revised as of January 1, 2015, on page 525, in part 1924, in § 1924.5, paragraph (g)(4) is reinstated to read as follows:

§ 1924.5 Planning development work.

* * * * *

(g) * * *

(4) Releases requested by the borrower or the buyer will be processed in accordance with applicable release procedures in 7 CFR part 3550, as appropriate.

* * * * *

[FR Doc. 2015-33038 Filed 12-30-15; 8:45 am]

BILLING CODE 1505-01-D